DEPARTMENT OF TRANSPORTATION

Federal Aviation Administration

RTCA Special Committee 200/EUROCAE Working Group 60: Modular Avionics, 12th Joint Plenary Session

AGENCY: Federal Aviation Administration (FAA), DOT.

ACTION: Notice of RTCA Special Committee 200/EUROCAE Working Group 60 meeting.

SUMMARY: The FAA is issuing this notice to advise the public of a meeting of RTCA Special Committee 200/EUROCAE Working Group 60: Modular Avionics.

DATES: The meeting will be held June 21-24, 2005, starting at 9 a.m.

ADDRESSES: The meeting will be held at RTCA, Inc., 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 200/EUROCAE Working Group 60 meeting. The agenda will include:

• June 21:

• Opening Plenary Session (Welcome and Introductory Remarks, Review/Accept Agenda, Review/Approve previous Common Plenary Summary minutes of February 15-18, 2005, Review Open Action Items, Establish process for resolution of editorial and technical comments on Final Review and Comment (FRAC) document Integrated Modular Avionics (IMA) Development Guidance and Certification Considerations).

• Plenary resolution of comments begins.

• June 22-23:

• Plenary resolution of comments continues.

• June 24:

• Closing Plenary Session (Complete resolution of FRAC comments, approve and forward FRAC document for approval, Review Action Items, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 17, 2005.
Natalie Ogletree,
FAA General Engineer, RTCA Advisory Committee.

[FR Doc. 05-10720 Filed 5-27-05; 8:45 am]

BILLING CODE 4910-13-M